DEPARTMENT OF ENERGY

Federal Energy Regulatory Commission

Combined Notice of Filings #1

Take notice that the Commission received the following electric corporate filings:

Docket Numbers: EC15-17-000.

Applicants: Dogwood Energy LLC.

Description: Application for Authorization Under Section 203 of the Federal Power Act and Request for Waivers, Confidential Treatment, Shortened Comment Period and Expedited Action of Dogwood Energy LLC.

Filed Date: 10/24/14.

Accession Number: 20141024-5181.

Comments Due: 5 p.m. ET 11/14/14.

Take notice that the Commission received the following electric rate filings:

Docket Numbers: ER10-3301-002; ER10-2757-002; ER10-2756-002.

Applicants: Arlington Valley, LLC, Griffith Energy LLC, GWF Energy LLC.

Description: Third Supplement to June 28, 2013 Triennial Market Power Update for the Southwest Region of the GWF Energy LLC, et. al.

Filed Date: 10/24/14.

Accession Number: 20141024-5185.

Comments Due: 5 p.m. ET 11/14/14.

Docket Numbers: ER12-1163-003.

Applicants: ATCO Power Canada Limited.

Description: Notice of Non-Material Change in Status of ATCO Power Canada Limited.

Filed Date: 10/24/14.

Accession Number: 20141024-5183.

Comments Due: 5 p.m. ET 11/14/14.

Docket Numbers: ER13-1562-002.

Applicants: Catalina Solar Lessee, LLC.

Description: Compliance filing per 35: Supplement to Notice of Non-Material Change in Status to be effective N/A.

Filed Date: 10/24/14.

Accession Number: 20141024-5147.

Comments Due: 5 p.m. ET 11/14/14.

Docket Numbers: ER15-192-000.

Applicants: Arizona Public Service Company.

Description: § 205(d) rate filing per 35.13(a)(2)(iii): Unexecuted Transmission Service Agreements with NRS to be effective 12/31/9998.

Filed Date: 10/24/14.

Accession Number: 20141024-5159.

Comments Due: 5 p.m. ET 11/14/14.

Docket Numbers: ER15-193-000.

Applicants: Midcontinent Independent System Operator, Inc.

Description: § 205(d) rate filing per 35.13(a)(2)(iii): 2014-10-27_ATC D-T Update Batch 3 to be effective 12/27/2014.

Filed Date: 10/27/14.

Accession Number: 20141027-5031.

Comments Due: 5 p.m. ET 11/17/14.

Docket Numbers: ER15-194-000.

Applicants: Midcontinent Independent System Operator, Inc.

Description: § 205(d) rate filing per 35.13(a)(2)(iii): 2014-10-27_SA 2707 NSP-Odell Wind Farm GIA (G826) to be effective 10/28/2014.

Filed Date: 10/27/14.

Accession Number: 20141027-5086.

Comments Due: 5 p.m. ET 11/17/14.

Docket Numbers: ER15-195-000.

Applicants: ISO New England Inc., New England Power Pool Participants Committee.

Description: § 205(d) rate filing per 35.13(a)(2)(iii): Various Revisions to FCM Rules to be effective 12/26/2014.

Filed Date: 10/27/14.

Accession Number: 20141027-5100.

Comments Due: 5 p.m. ET 11/17/14.

Docket Numbers: ER15-196-000.

Applicants: PJM Interconnection, L.L.C.

Description: Tariff Withdrawal per 35.15: Notice of Cancellation of Service Agreement No. 3651; Queue No. V4-041 to be effective 11/24/2014.

Filed Date: 10/27/14.

Accession Number: 20141027-5113.

Comments Due: 5 p.m. ET 11/17/14.

Docket Numbers: ER15-197-000.

Applicants: Midcontinent Independent System Operator, Inc.

Description: § 205(d) rate filing per 35.13(a)(2)(iii): 2014-10-27_Amend Section 34.2 re: Transmission Losses to be effective 1/1/2015.

Filed Date: 10/27/14.

Accession Number: 20141027-5131.

Comments Due: 5 p.m. ET 11/17/14.

Docket Numbers: ER15-198-000.

Applicants: PJM Interconnection, L.L.C.

Description: Tariff Withdrawal per 35.15: Notice of Cancellation of Service Agreement No. 3652; Queue No. V4-042 to be effective 11/24/2014.

Filed Date: 10/27/14.

Accession Number: 20141027-5144.

Comments Due: 5 p.m. ET 11/17/14.

Docket Numbers: ER15-199-000.

Applicants: MidAmerican Energy Company.

Description: Request for Waiver of MISO Tariff Resource Adequacy Requirements of MidAmerican Energy Company.

Filed Date: 10/27/14.

Accession Number: 20141027-5153.

Comments Due: 5 p.m. ET 11/17/14.

Docket Numbers: ER15-200-000.

Applicants: ISO New England Inc., Northeast Utilities Service Company.

Description: § 205(d) rate filing per 35.13(a)(2)(iii): CVP Towantic, LLC Large Generator Interconnection Agreement to be effective 11/1/2014.

Filed Date: 10/27/14.

Accession Number: 20141027-5171.

Comments Due: 5 p.m. ET 11/17/14.

Take notice that the Commission received the following public utility holding company filings:

Docket Numbers: PH15-3-000.

Applicants: Starwood Energy Group Global, L.L.C.

Description: Starwood Energy Group Global, L.L.C. submits FERC 65-B Waiver Notification of Material Change in Facts.

Filed Date: 10/27/14.

Accession Number: 20141027-5160.

Comments Due: 5 p.m. ET 11/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2014.
Nathaniel J. Davis, Sr.,
Deputy Secretary.

[FR Doc. 2014-26151 Filed 11-3-14; 8:45 am]

BILLING CODE 6717-01-P